DEPARTMENT OF TRANSPORTATION

Federal Aviation Administration

14 CFR Part 39

[Docket No. FAA-2021-0368; Project Identifier MCAI-2021-00204-T; Amendment 39-21705; AD 2021-18-04]

RIN 2120-AA64

Airworthiness Directives; Airbus SAS Airplanes

AGENCY: Federal Aviation Administration (FAA), DOT.

ACTION: Final rule.

SUMMARY: The FAA is adopting a new airworthiness directive (AD) for all Airbus SAS Model A318, A319, A320, and A321 series airplanes. This AD was prompted by reports of low halon concentration in the forward and aft cargo compartments due to air leakage through cargo door seals, and the certification of improved cargo door seals. This AD requires repetitive cleaning and greasing of affected cargo door seals; replacing the forward, aft, and bulk cargo compartment door seals with new seals; and installing a placard on the forward, aft, and cargo compartment doors; and for certain airplanes, implementing an operational limitation for certain routes, as specified in a European Union Aviation Safety Agency (EASA) AD, which is incorporated by reference. The FAA is issuing this AD to address the unsafe condition on these products.

DATES: This AD is effective October 20, 2021.

The Director of the Federal Register approved the incorporation by reference of a certain publication listed in this AD as of October 20, 2021.

ADDRESSES: For material incorporated by reference (IBR) in this AD, contact EASA, Konrad-Adenauer-Ufer 3, 50668 Cologne, Germany; telephone +49 221 8999 000; email ADs@easa.europa.eu; internet www.easa.europa.eu. You may find this IBR material on the EASA website at https://ad.easa.europa.eu. You may view this IBR material at the FAA, Airworthiness Products Section, Operational Safety Branch, 2200 South 216th St., Des Moines, WA. For information on the availability of this material at the FAA, call 206-231-3195. It is also available in the AD docket on the internet at https://www.regulations.gov by searching for and locating Docket No. FAA-2021-0368.

Examining the AD Docket

You may examine the AD docket on the internet at https://www.regulations.gov by searching for and locating Docket No. FAA-2021-0368; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Sanjay Ralhan, Aerospace Engineer, Large Aircraft Section, International Validation Branch, FAA, 2200 South 216th St., Des Moines, WA 98198; telephone and fax 206-231-3223; email sanjay.ralhan@faa.gov.

SUPPLEMENTARY INFORMATION:

Background

EASA, which is the Technical Agent for the Member States of the European Union, has issued EASA AD 2021-0049, dated February 18, 2021 (EASA AD 2021-0049) (also referred to as the Mandatory Continuing Airworthiness Information, or the MCAI), to correct an unsafe condition for all Airbus SAS Model A318-111, -112, -121, and -122; A319-111, -112, -113, -114, -115, -131, -132, -133, -151N, -153N, and -171N; A320-211, -212, -214, -215, -216, -231, -232, -233, -251N, -252N, -253N, -271N, -272N, and -273N; and A321-111, -112, -131, -211, -212, -213, -231, -232, -251N, -252N, -253N, -271N, -272N, -251NX, -252NX, -253NX, -271NX, and -272NX airplanes. Model A320-215 airplanes are not certificated by the FAA and are not included on the U.S. type certificate data sheet; this AD therefore does not include those airplanes in the applicability.

The FAA issued a notice of proposed rulemaking (NPRM) to amend 14 CFR part 39 by adding an AD that would apply to all Airbus SAS Model A318, A319, A320, and A321 series airplanes. The NPRM published in the Federal Register on May 17, 2021 (86 FR 26682). The NPRM was prompted by reports of low halon concentration in the forward and aft cargo compartments due to air leakage through cargo door seals, and the certification of improved cargo door seals. The NPRM proposed to require replacing the forward, aft, and bulk cargo compartment door seals with new seals; and installing a placard on the forward, aft, and cargo compartment doors; and for certain airplanes, implementing an operational limitation for certain routes, as specified in EASA AD 2021-0049. The NPRM specified that accomplishing the proposed AD would terminate all requirements (i.e., repetitive cleaning and greasing of affected cargo door seals) of AD 2020-16-01, Amendment 39-21185 (85 FR 47013, August 4, 2020) (AD 2020-16-01) for the affected original equipment manufacturer (OEM) parts only (i.e., forward and aft cargo door seals having part number (p/n) D5237106020000, D5237106020200, D5237106020400, D5237300120000, or D5237300120200; and bulk cargo door seals having p/n D5237200220000 or D5237200220200).

The FAA is issuing this AD to address low halon concentration, which could affect the fire extinguishing system efficiency in the cargo compartments and possibly result in failure of the system to contain a cargo compartment fire. See the MCAI for additional background information.

Comments

The FAA gave the public the opportunity to participate in developing this final rule. The following presents the comments received on the NPRM and the FAA's response to each comment.

Request To Change NPRM to a Supersedure of AD 2020-16-01

Delta Air Lines (Delta) requested that the FAA change the NPRM from a new AD to a supersedure of AD 2020-16-01. Delta stated that a supersedure adds flexibility for operators and makes compliance to the rule simpler and cleaner for operators. Delta provided the following justification.

• Delta noted paragraph (h)(2) of the proposed AD states that paragraphs (1) and (2) of EASA AD 2021-0049 do not apply and attributed the exception to AD 2020-16-01 not being superseded. Delta further stated that not having paragraph (2) of EASA AD 2021-0049 within the requirements of the proposed AD is restrictive to operators because that paragraph allows using the aircraft maintenance manual (AMM) as an alternative to the cleaning and greasing requirements in paragraph (1) of EASA AD 2021-0049 (which corresponds to FAA AD 2020-16-01). Delta noted that paragraph (1) of EASA AD 2021-0049 also includes a clarification to the requirements.

• Delta also stated paragraph (h)(6) of the proposed AD specifies that paragraphs (5) and (6) of EASA AD 2021-0049 do not apply and reasoned it is because they are related to the cleaning and greasing actions in paragraph (1) of EASA AD 2021-0049, which are not included in the proposed AD. Delta suggested that if the NPRM was changed to supersede AD 2020-16-01, then the exceptions in paragraphs (h)(2) and (h)(6) of the proposed AD would not be needed. Delta concluded the same actions would be accomplished and credit would be given for previously accomplished actions.

• Delta stated that the proposed AD does not include the exception from paragraph (h)(3) of AD 2020-16-01 that adds forward and aft cargo door seals part number D5237106020400S, approved under parts manufacturer approval (PMA) PQ1715CE. Delta noted that if the proposed AD did remove the exceptions in paragraphs (h)(2) and (h)(6) of the proposed AD (e.g., if the NPRM did supersede AD 2020-16-01), then the PMA part could be included by added new exceptions.

The FAA has determined that the OEM parts specified in AD 2020-16-01 should be addressed in separate rulemaking and the FAA is also considering further rulemaking to address the corresponding PMA parts in a separate rulemaking action.

The FAA does not agree to supersede AD 2020-16-01 with this AD. At the time the NPRM was developed, the FAA separated the rulemaking for OEM parts from the PMA parts since the FAA was informed of implementation issues with the adoption of a combined rulemaking (OEM parts and PMA parts) by the foreign civil aviation authorities. Therefore, as an interim action, the FAA has decided to issue separate ADs for the OEM parts and the PMA parts. The FAA is discussing how to address OEM and PMA parts in ADs for future rulemaking. However, in the interest of safety to address the unsafe condition on the OEM parts identified in this AD, the FAA has determined this AD cannot be delayed.

The FAA does agree to retain the requirements of AD 2020-16-01 in this AD for the affected OEM parts identified in EASA AD 2021-0049. This will allow operators to comply with a single AD for those parts. The FAA cannot supersede AD 2020-16-01 in this AD as that would add requirements for the PMA part approved under PMA PQ1715CE that were not included in the NPRM. As discussed previously, the FAA is considering separate rulemaking for the PMA part approved under PMA PQ1715CE that replicates the provisions and requirements of this AD for those parts.

The FAA has removed the exception specified in paragraph (h)(2) of the proposed AD that stated paragraphs (1) and (2) of EASA AD 2021-0049 do not apply. Therefore, this AD now includes the cleaning and greasing required by AD 2020-16-01 for the affected OEM parts and now allows for the provision specified in paragraph (2) of EASA AD 2021-0049. The FAA has added an exception to paragraph (h)(2) of this AD to correlate the compliance time specified in paragraph (1) of EASA AD 2021-0049 with the compliance time in AD 2020-16-01. Paragraph (h)(2) of this AD also explains that operators only need to show compliance with the cleaning and greasing done on or after the effective date of this AD for the actions required by paragraph (1) of EASA AD 2021-0049 for any of the affected OEM parts; operators will no longer need to show compliance with the requirements of AD 2020-16-01 for affected OEM parts.

The FAA has also removed the exception specified in paragraph (h)(6) of the proposed AD that stated paragraphs (5) and (6) of EASA AD 2021-0049 do not apply. Paragraph (5) of EASA AD 2021-0049 provides credit for paragraph (1) of EASA AD 2021-0049. Paragraph (6) of EASA AD 2021-0049 provides terminating action for paragraph (1) of EASA AD. The FAA has also clarified the terminating action statement in paragraph (i) of this AD.

Request To Clarify Paragraph (h)(4) of the Proposed AD

Delta asked if amending “the existing AFM and corresponding operational procedures” must be done by inserting a copy of EASA AD 2021-0049 into all applicable documentation or must a copy of the EASA AD and the FAA AD be inserted. The FAA infers Delta is seeking clarification on this requirement.

The FAA notes that operators do not need to insert both a copy of the EASA AD and the FAA AD. Inserting a copy of only EASA AD 2020-0049 into the existing aircraft flight manual (AFM) and applicable corresponding operational procedures is one acceptable method to comply with this requirement. The FAA has revised paragraph (h)(4) of this AD accordingly.

Request To Clarify Paragraph (h)(3) of the Proposed AD

Delta requested that the FAA explain the intent of the exception in paragraph (h)(3) of the proposed AD, which states the requirement “to operate the aircraft accordingly” specified in paragraph (4) of EASA AD 2021-0049 does not apply because that action is already required by existing FAA operating regulations. Delta asked for confirmation that there are no procedural changes required for U.S. operators because the operating requirements are already being complied with.

The FAA notes that intent of the exception in paragraph (h)(3) of this AD was explained in the preamble of the NPRM in “Proposed AD requirements.” To clarify, paragraph (4) of EASA AD 2021-0049 requires flightcrew action to implement the AFM limitation that has been added to the existing AFM. FAA regulations require pilots to follow the procedures in the existing AFM including all updates. 14 CFR 91.9 requires that any person operating a civil aircraft must comply with the operating limitations specified in the AFM. Therefore, operators already must comply with the operating requirements per the FAA regulations and an AD requirement “to operate the airplane accordingly” is not necessary.

Conclusion

The FAA reviewed the relevant data, considered the comments received, and determined that air safety and the public interest require adopting this final rule with the changes described previously and minor editorial changes. The FAA has determined that these minor changes:

• Are consistent with the intent that was proposed in the NPRM for addressing the unsafe condition; and

• Do not add any additional burden upon the public than was already proposed in the NPRM.

The FAA also determined that these changes will not increase the economic burden on any operator or increase the scope of this final rule.

Related Service Information Under 1 CFR Part 51

EASA AD 2021-0049 describes procedures for repetitive cleaning and greasing of affected cargo door seals; replacing the forward, aft, and bulk cargo compartment door seals with new seals; and installing a placard on the forward, aft, and bulk cargo compartment door. For certain airplanes, EASA AD 2021-0049 describes procedures for implementing an operational limitation prohibiting flying the airplane over a route having a diversion time of more than 60 minutes. This material is reasonably available because the interested parties have access to it through their normal course of business or by the means identified in the ADDRESSES section.

Costs of Compliance

The FAA estimates that this AD affects 1,728 airplanes of U.S. registry. The FAA estimates the following costs to comply with this AD:

Estimated Costs for Required Actions
Action | Labor cost | Parts cost | Cost per product | Cost on U.S. operators
Retained actions from AD 2020-16-01 | 1 work-hour × $85 per hour = $85 | $0 | $85 | $146,880.
New actions | Up to 11 work-hours × $85 per hour = Up to $935 | Up to $6,760 | Up to $7,695 | Up to $13,296,960.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-18-04 Airbus SAS: Amendment 39-21705; Docket No. FAA-2021-0368; Project Identifier MCAI-2021-00204-T.

(a) Effective Date

This airworthiness directive (AD) is effective October 20, 2021.

(b) Affected ADs

This AD affects AD 2020-16-01, Amendment 39-21185 (85 FR 47013, August 4, 2020) (AD 2020-16-01).

(c) Applicability

This AD applies to all Airbus SAS airplanes specified in paragraphs (c)(1) through (4) of this AD, certificated in any category.

(1) Model A318-111, -112, -121, and -122 airplanes.

(2) Model A319-111, -112, -113, -114, -115, -131, -132, -133, -151N, -153N, and -171N airplanes.

(3) Model A320-211, -212, -214, -216, -231, -232, -233, -251N, -252N, -253N, -271N, -272N, and -273N airplanes.

(4) Model A321-111, -112, -131, -211, -212, -213, -231, -232, -251N, -252N, -253N, -271N, -272N, -251NX, -252NX, -253NX, -271NX, and -272NX airplanes.

(d) Subject

Air Transport Association (ATA) of America Code 26, Fire protection; 52, Doors.

(e) Reason

This AD was prompted by reports of low halon concentration in the forward and aft cargo compartments due to air leakage through cargo door seals, and the certification of improved cargo door seals. The FAA is issuing this AD to address low halon concentration, which could affect the fire extinguishing system efficiency in the cargo compartments and possibly result in failure of the system to contain a cargo compartment fire.

(f) Compliance

Comply with this AD within the compliance times specified, unless already done.

(g) Requirements

Except as specified in paragraph (h) of this AD: Comply with all required actions and compliance times specified in, and in accordance with, European Union Aviation Safety Agency (EASA) AD 2021-0049, dated February 18, 2021 (EASA AD 2021-0049).

(h) Exceptions to EASA AD 2021-0049

(1) Where EASA AD 2021-0049 refers to its effective date, this AD requires using the effective date of this AD.

(2) Where paragraph (1) of EASA AD 2021-0049 refers to June 20, 2020 (the effective date of EASA AD 2020-0133, dated June 10, 2020), this AD requires using August 19, 2020 (the effective date of AD 2020-16-01). However, operators only need to show compliance with this AD for the cleaning and greasing actions required by paragraph (1) of EASA AD 2021-0049 that are accomplished on or after the effective date of this AD. As of the effective date of this AD, operators do not need to show compliance with the cleaning and greasing actions required by AD 2020-16-01 for any cargo door seal having part number (p/n) D5237106020000, D5237106020200, D5237106020400, D5237300120000, or D5237300120200; or any bulk cargo door seals having p/n D5237200220000 or D5237200220200, as those actions are now required by paragraph (1) of EASA AD 2021-0049.

(3) Where paragraph (4) of EASA AD 2021-0049 specifies amending the aircraft flight manual (AFM) and “operating that aeroplane accordingly,” this AD does not include a requirement for “operating that aeroplane accordingly” as that action is already required by existing FAA operating regulations.

(4) Paragraph (4) of EASA AD 2021-0049 specifies amending “the Aircraft Flight Manual (AFM) of the aeroplane,” however, this AD requires amending “the existing AFM and applicable corresponding operational procedures.” Inserting a copy of EASA AD 2021-0049 into the existing AFM and applicable corresponding operational procedures is an acceptable method to comply with this requirement.

(5) The “Remarks” section of EASA AD 2021-0049 does not apply to this AD.

(i) Terminating Action for AD 2020-16-01

Accomplishing the terminating action on an airplane, as specified in paragraph (6) of EASA AD 2021-0049, for the affected parts defined in EASA AD 2021-0049 terminates all requirements of AD 2020-16-01 for forward and aft cargo door seals having part number (p/n) D5237106020000, D5237106020200, D5237106020400, D5237300120000, or D5237300120200; and bulk cargo door seals having p/n D5237200220000 or D5237200220200 only.

(j) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (k) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(3) Required for Compliance (RC): For any service information referenced in EASA AD 2021-0049 that contains RC procedures and tests: Except as required by paragraph (j)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

For more information about this AD, contact Sanjay Ralhan, Aerospace Engineer, Large Aircraft Section, International Validation Branch, FAA, 2200 South 216th St., Des Moines, WA 98198; telephone and fax 206-231-3223; email sanjay.ralhan@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2021-0049, dated February 18, 2021.

(ii) [Reserved]

(3) For EASA AD 2021-0049, contact EASA, Konrad-Adenauer-Ufer 3, 50668 Cologne, Germany; telephone +49 221 8999 000; email ADs@easa.europa.eu; internet www.easa.europa.eu. You may find this EASA AD on the EASA website at https://ad.easa.europa.eu.

(4) You may view this material at the FAA, Airworthiness Products Section, Operational Safety Branch, 2200 South 216th St., Des Moines, WA. For information on the availability of this material at the FAA, call 206-231-3195. This material may be found in the AD docket on the internet at https://www.regulations.gov by searching for and locating Docket No. FAA-2021-0368.

(5) You may view this material that is incorporated by reference at the National Archives and Records Administration (NARA). For information on the availability of this material at NARA, email fr.inspection@nara.gov, or go to: https://www.archives.gov/federal-register/cfr/ibr-locations.html.

Issued on August 19, 2021.
Gaetano A. Sciortino,
Deputy Director for Strategic Initiatives, Compliance & Airworthiness Division, Aircraft Certification Service.

[FR Doc. 2021-19816 Filed 9-14-21; 8:45 am]

BILLING CODE 4910-13-P